DEPARTMENT OF ENERGY

Federal Energy Regulatory Commission

Combined Notice of Filings

Take notice that the Commission has received the following Natural Gas Pipeline Rate and Refund Report filings:

Filings Instituting Proceedings

Docket Numbers: RP21-760-000.

Applicants: Kinetica Energy Express, LLC.

Description: Motion Filing: Motion to Place Suspended Tariff Records into Effect to be effective 11/1/2021.

Filed Date: 10/28/21.

Accession Number: 20211028-5123.

Comment Date: 5 p.m. ET 11/9/21.

Docket Numbers: RP22-98-000.

Applicants: Sierrita Gas Pipeline LLC.

Description: § 4(d) Rate Filing: Fuel and LU Update to be effective 12/1/2021.

Filed Date: 10/28/21.

Accession Number: 20211028-5076.

Comment Date: 5 p.m. ET 11/9/21.

Docket Numbers: RP22-99-000.

Applicants: Portland Natural Gas Transmission System.

Description: § 4(d) Rate Filing: Reservation Charge Credits to be effective 12/1/2021.

Filed Date: 10/28/21.

Accession Number: 20211028-5081.

Comment Date: 5 p.m. ET 11/9/21.

Docket Numbers: RP22-100-000.

Applicants: Texas Eastern Transmission, LP.

Description: § 4(d) Rate Filing: Negotiated Rates—Vitol 911824 eff 11-1-2021 to be effective 11/1/2021.

Filed Date: 10/28/21.

Accession Number: 20211028-5083.

Comment Date: 5 p.m. ET 11/9/21.

Docket Numbers: RP22-101-000.

Applicants: Texas Eastern Transmission, LP.

Description: § 4(d) Rate Filing: Negotiated Rates—Castleton 911826 and 911827 to be effective 11/1/2021.

Filed Date: 10/28/21.

Accession Number: 20211028-5085.

Comment Date: 5 p.m. ET 11/9/21.

Docket Numbers: RP22-102-000.

Applicants: Texas Eastern Transmission, LP.

Description: § 4(d) Rate Filing: Negotiated Rates—Nextera 911771 Perm Rel to BUG 911805 to be effective 11/1/2021.

Filed Date: 10/28/21.

Accession Number: 20211028-5093.

Comment Date: 5 p.m. ET 11/9/21.

Docket Numbers: RP22-103-000.

Applicants: Transcontinental Gas Pipe Line Company, LLC.

Description: § 4(d) Rate Filing: Negotiated Rates—Sentinel—National Grid NY to be effective 11/1/2021.

Filed Date: 10/28/21.

Accession Number: 20211028-5106.

Comment Date: 5 p.m. ET 11/9/21.

Docket Numbers: RP22-104-000.

Applicants: Sabine Pipe Line LLC.

Description: Compliance filing: 2021 Sabine NAESB Compliance Filing Final to be effective 6/1/2022.

Filed Date: 10/28/21.

Accession Number: 20211028-5107.

Comment Date: 5 p.m. ET 11/9/21.

Docket Numbers: RP22-105-000.

Applicants: Maritimes & Northeast Pipeline, L.L.C.

Description: § 4(d) Rate Filing: Negotiated Rate—New Brunswick Energy 210384 Release eff 11-1-2021 to be effective 11/1/2021.

Filed Date: 10/28/21.

Accession Number: 20211028-5110.

Comment Date: 5 p.m. ET 11/9/21.

Docket Numbers: RP22-106-000.

Applicants: Texas Eastern Transmission, LP.

Description: § 4(d) Rate Filing: Negotiated Rates—NRG 910616 Perm Release to Direct 911823 to be effective 11/1/2021.

Filed Date: 10/28/21.

Accession Number: 20211028-5153.

Comment Date: 5 p.m. ET 11/9/21.

Docket Numbers: RP22-107-000.

Applicants: Algonquin Gas Transmission, LLC.

Description: § 4(d) Rate Filing: Negotiated Rates—Keyspan 510369 Releases eff 11-1-2021 to be effective 11/1/2021.

Filed Date: 10/28/21.

Accession Number: 20211028-5183.

Comment Date: 5 p.m. ET 11/9/21.

Docket Numbers: RP22-108-000.

Applicants: Texas Eastern Transmission, LP.

Description: § 4(d) Rate Filing: Negotiated Rates—PSEG 911810 eff 11-1-21 to be effective 11/1/2021.

Filed Date: 10/28/21.

Accession Number: 20211028-5188.

Comment Date: 5 p.m. ET 11/9/21.

Docket Numbers: RP22-109-000.

Applicants: Algonquin Gas Transmission, LLC.

Description: § 4(d) Rate Filing: Negotiated Rates—Brooklyn Union 806313 Releases eff 11-1-2021 to be effective 11/1/2021.

Filed Date: 10/29/21.

Accession Number: 20211029-5000.

Comment Date: 5 p.m. ET 11/10/21.

Docket Numbers: RP22-110-000.

Applicants: Columbia Gas Transmission, LLC.

Description: § 4(d) Rate Filing: OTRA Winter 2021 to be effective 12/1/2021.

Filed Date: 10/29/21.

Accession Number: 20211029-5003.

Comment Date: 5 p.m. ET 11/10/21.

Docket Numbers: RP22-111-000.

Applicants: Portland Natural Gas Transmission System.

Description: § 4(d) Rate Filing: PXP Ph III Cost Sharing Adjustment to be effective 11/1/2021.

Filed Date: 10/29/21.

Accession Number: 20211029-5026.

Comment Date: 5 p.m. ET 11/10/21.

Docket Numbers: RP22-112-000.

Applicants: Enable Mississippi River Transmission, LLC.

Description: Compliance filing: 2021 Annual Report of Penalty Revenue Credits to be effective N/A.

Filed Date: 10/29/21.

Accession Number: 20211029-5028.

Comment Date: 5 p.m. ET 11/10/21.

Docket Numbers: RP22-113-000.

Applicants: Gulf South Pipeline Company, LLC.

Description: Compliance filing: Compliance Tariff Filing to Docket No. CP19-517-000 to be effective 12/1/2021.

Filed Date: 10/29/21.

Accession Number: 20211029-5043.

Comment Date: 5 p.m. ET 11/10/21.

Docket Numbers: RP22-114-000.

Applicants: Gulf South Pipeline Company, LLC.

Description: § 4(d) Rate Filing: Cap Rel Neg Rate Agmts (Atlanta Gas 8438 to various eff 11-1-2021) to be effective 11/1/2021.

Filed Date: 10/29/21.

Accession Number: 20211029-5044.

Comment Date: 5 p.m. ET 11/10/21.

Docket Numbers: RP22-115-000.

Applicants: ETC Tiger Pipeline, LLC.

Description: § 4(d) Rate Filing: Fuel Filing on 10-29-21 to be effective 12/1/2021.

Filed Date: 10/29/21.

Accession Number: 20211029-5055.

Comment Date: 5 p.m. ET 11/10/21.

Docket Numbers: RP22-116-000.

Applicants: Fayetteville Express Pipeline LLC.

Description: § 4(d) Rate Filing: Fuel Filing on 10-29-21 to be effective 12/1/2021.

Filed Date: 10/29/21.

Accession Number: 20211029-5058.

Comment Date: 5 p.m. ET 11/10/21.

Docket Numbers: RP22-117-000.

Applicants: Algonquin Gas Transmission, LLC.

Description: § 4(d) Rate Filing: AGT FRQ 2021 Filing to be effective 12/1/2021.

Filed Date: 10/29/21.

Accession Number: 20211029-5075.

Comment Date: 5 p.m. ET 11/10/21.

Docket Numbers: RP22-118-000.

Applicants: Wyoming Interstate Company, L.L.C.

Description: § 4(d) Rate Filing: Fuel and L&U Quarterly Filing to be effective 12/1/2021.

Filed Date: 10/29/21.

Accession Number: 20211029-5081.

Comment Date: 5 p.m. ET 11/10/21.

Docket Numbers: RP22-119-000.

Applicants: Algonquin Gas Transmission, LLC.

Description: § 4(d) Rate Filing: Negotiated Rates—Consolidated Edison 510371 Releases eff 11-1-2021 to be effective 11/1/2021.

Filed Date: 10/29/21.

Accession Number: 20211029-5083.

Comment Date: 5 p.m. ET 11/10/21.

Docket Numbers: RP22-120-000.

Applicants: Cheniere Creole Trail Pipeline, L.P.

Description: § 4(d) Rate Filing: CCTPL Transportation Retainage Adjustment to be effective 12/1/2021.

Filed Date: 10/29/21.

Accession Number: 20211029-5088.

Comment Date: 5 p.m. ET 11/10/21.

Docket Numbers: RP22-121-000.

Applicants: Midship Pipeline Company, LLC.

Description: § 4(d) Rate Filing: Midship Pipeline Transportation Retainage Adjustment to be effective 12/1/2021.

Filed Date: 10/29/21.

Accession Number: 20211029-5089.

Comment Date: 5 p.m. ET 11/10/21.

Docket Numbers: RP22-122-000.

Applicants: Garden Banks Gas Pipeline, LLC.

Description: Compliance filing: GB Order 587-Z (Docket RM96-1-042) Compliance Filing to be effective 6/1/2022.

Filed Date: 10/29/21.

Accession Number: 20211029-5098.

Comment Date: 5 p.m. ET 11/10/21.

Docket Numbers: RP22-123-000.

Applicants: Rockies Express Pipeline LLC.

Description: § 4(d) Rate Filing: REX 2021-10-29 Non-Conforming Negotiated Rate Amendment to be effective 11/1/2021.

Filed Date: 10/29/21.

Accession Number: 20211029-5102.

Comment Date: 5 p.m. ET 11/10/21.

Docket Numbers: RP22-124-000.

Applicants: Eastern Gas Transmission and Storage, Inc.

Description: § 4(d) Rate Filing: EGTS—October 29, 2021 Negotiated Rate Agreements to be effective 12/1/2021.

Filed Date: 10/29/21.

Accession Number: 20211029-5106.

Comment Date: 5 p.m. ET 11/10/21.

Docket Numbers: RP22-125-000.

Applicants: Mississippi Canyon Gas Pipeline, L.L.C.

Description: Compliance filing: MCGP Order 587-Z (Docket RM96-1-042) Compliance Filing to be effective 6/22/2022.

Filed Date: 10/29/21.

Accession Number: 20211029-5114.

Comment Date: 5 p.m. ET 11/10/21.

Docket Numbers: RP22-126-000.

Applicants: Kern River Gas Transmission Company.

Description: § 4(d) Rate Filing: 2021 October Negotiated Rate Amendment to be effective 11/1/2021.

Filed Date: 10/29/21.

Accession Number: 20211029-5120.

Comment Date: 5 p.m. ET 11/10/21.

Docket Numbers: RP22-127-000.

Applicants: Transcontinental Gas Pipe Line Company, LLC.

Description: § 4(d) Rate Filing: Negotiated Rates—Leidy South—Interim Svc 2—Coterra Energy to be effective 11/1/2021.

Filed Date: 10/29/21.

Accession Number: 20211029-5139.

Comment Date: 5 p.m. ET 11/10/21.

Docket Numbers: RP22-128-000.

Applicants: Northern Natural Gas Company.

Description: § 4(d) Rate Filing: 20211029 Negotiated Rate to be effective 11/1/2021.

Filed Date: 10/29/21.

Accession Number: 20211029-5142.

Comment Date: 5 p.m. ET 11/10/21.

Docket Numbers: RP22-129-000.

Applicants: Great Lakes Gas Transmission Limited Partnership.

Description: § 4(d) Rate Filing: TCPL FT18966 Rev 5 Negotiated Rate Agreement to be effective 11/1/2021.

Filed Date: 10/29/21

Accession Number: 20211029-5154.

Comment Date: 5 p.m. ET 11/10/21.

Docket Numbers: RP22-130-000.

Applicants: Colorado Interstate Gas Company, L.L.C.

Description: § 4(d) Rate Filing: Negotiated Rate Agreement Filing (BHSC #218854) to be effective 11/1/2021.

Filed Date: 10/29/21

Accession Number: 20211029-5161.

Comment Date: 5 p.m. ET 11/10/21.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP21-1129-001.

Applicants: ANR Pipeline Company.

Description: Compliance filing: ANR Best Bid Evaluation Compliance to be effective 10/20/2021.

Filed Date: 10/28/21.

Accession Number: 20211028-5033.

Comment Date: 5 p.m. ET 11/9/21.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number. eFiling is encouraged. More detailed information relating to filing requirements, interventions, protests, service, and qualifying facilities filings can be found at: http://www.ferc.gov/docs-filing/efiling/filing-req.pdf. For other information, call (866) 208-3676 (toll free). For TTY, call (202) 502-8659.

Dated: October 29, 2021.
Debbie-Anne A. Reese,
Deputy Secretary.

[FR Doc. 2021-24108 Filed 11-3-21; 8:45 am]

BILLING CODE 6717-01-P